DEPARTMENT OF COMMERCE

National Oceanic and Atmospheric Administration

[I.D. 070506E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Salmon Amendment Committee (SAC) will hold a meeting to review a preliminary draft Environmental Assessment for an amendment to the Pacific Coast Salmon Fishery Management Plan (FMP) addressing the issue of de minimis ocean fisheries during periods of depressed Klamath River fall Chinook stock status. The SAC will discuss preliminary analyses of the alternatives and initiate discussions to recommend a preferred alternative for the Council's September 11-15, 2006 meeting in Foster City, CA. The SAC meeting is open to the public.

DATES: The meeting will be held Thursday, August 9, 2006, from 8 a.m. to 5 p.m.

ADDRESSES: The meeting will be held at the Council office, 7700 NE Ambassador Place, Suite 101, Portland, OR 97220-1384.

FOR FURTHER INFORMATION CONTACT: Mr. Chuck Tracy, Salmon Management Staff Officer, Pacific Fishery Management Council; (503) 820-2280.

SUPPLEMENTARY INFORMATION: The purpose of the meeting is to review a preliminary draft Environmental Assessment for an amendment to the Salmon FMP addressing the issue of de minimis ocean fisheries during periods of depressed Klamath River fall Chinook stock status. This issue required a emergency implementation of the 2006 ocean salmon season. The development of an amendment is intended to avoid the need for an emergency rule in the future. The alternatives reviewed at this meeting will be the basis for developing a preferred alternative, which the Council is scheduled to adopt for public review and further analysis at its September 11-15, 2006 meeting in Foster City, CA.

Although non-emergency issues not contained in the meeting agenda may come before the SAC for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: July 5, 2006.
Tracey L. Thompson,
Acting Director, Office of Sustainable Fisheries, National Marine Fisheries Service.

[FR Doc. E6-10732 Filed 7-7-06; 8:45 am]

BILLING CODE 3510-22-S